DEPARTMENT OF TRANSPORTATION

Federal Motor Carrier Safety Administration

[Docket No. FMCSA-2018-0223]

Parts and Accessories Necessary for Safe Operation; Exemption Renewal for Groendyke Transport, Inc.

AGENCY: Federal Motor Carrier Safety Administration (FMCSA), Department of Transportation (DOT).

ACTION: Notice of final disposition; renewal of exemption.

SUMMARY: FMCSA announces its final decision to grant an exemption renewal requested by Groendyke Transport, Inc. (Groendyke) to allow the use of an amber brake-activated pulsating lamp on the rear of its trailers in addition to the steady-burning brake lamps required by the Federal Motor Carrier Safety Regulations (FMCSR). FMCSA concludes that renewing the exemption, subject to the terms and conditions set forth below, is likely to achieve a level of safety equivalent to or greater than the level of safety that would be achieved absent the exemption.

DATES: This renewed exemption is effective April 26, 2024, through April 26, 2029.

FOR FURTHER INFORMATION CONTACT: Mr. David Sutula, Chief, Vehicle and Roadside Operations Division, Office of Carrier, Driver, and Vehicle Safety, FMCSA, 1200 New Jersey Avenue SE, Washington, DC 20590-0001; (202) 366-9209; MCPSV@dot.gov. If you have questions on viewing or submitting material to the docket, call Dockets Operations at (202) 366-9826.

SUPPLEMENTARY INFORMATION:

I. Viewing Comments and Documents

To view any documents mentioned as being available in the docket, go to https://www.regulations.gov/docket/FMCSA-2018-0223/document and choose the document to review. To view comments, click this notice, then click “Browse Comments.” If you do not have access to the internet, you may view the docket online by visiting Dockets Operations on the ground floor of the DOT West Building, 1200 New Jersey Avenue SE, Washington, DC 20590-0001, between 9 a.m. and 5 p.m. ET, Monday through Friday, except Federal holidays. To be sure someone is there to help you, please call (202) 366-9317 or (202) 366-9826 before visiting Dockets Operations.

II. Legal Basis

FMCSA has authority under 49 U.S.C. 31136(e) and 31315(b)(2) and 49 CFR 381.300(b) to renew an exemption from the FMCSRs for subsequent periods of up to 5 years if it finds that such exemption would likely maintain a level of safety that is equivalent to, or greater than, the level that would be achieved by the current regulation (49 CFR 381.305(a)).

III. Background

On June 28, 2024, after review of Groendyke's renewal application, FMCSA published its decision to provisionally grant a 6-month renewal of the exemption effective April 26, 2024, through October 26, 2024, and requested public comment (89 FR 54147). The comment period closed on July 29, 2024. The Agency did not receive any comments in response to the notice.

IV. Exemption Decision

A. Grant of Exemption

As explained in the notice of provisional renewal, FMCSA believes that renewing the exemption to allow the operation of Groendyke's brake-activated pulsating lamps, under the terms and conditions set forth in this exemption renewal decision, will likely achieve a level of safety that is equivalent to, or greater than, the level of safety achieved without the exemption. FMCSA further stated in the provisional renewal that if evidence of insufficient safety was not provided, the Agency anticipated granting a full 5-year exemption when the provisional renewal expired. FMCSA has not received any information that would alter the safety analysis from the June 28, 2024, provisional renewal and, accordingly, adopts the analysis and conclusions in this renewal.

FMCSA renews the exemption for 5 years subject to the terms and conditions of this decision. The exemption from the requirements of 49 CFR 393.25(e) is effective April 26, 2024, through April 26, 2029.

B. Applicability of Exemption

During the exemption period, Groendyke may install or continue to use an amber brake-activated pulsating lamp positioned in the upper center of the rear of its trailers in addition to the steady-burning brake lamps required by the FMCSRs.

C. Terms and Conditions

1. Limitation of Exemption:

• This exemption applies exclusively to CMVs operated by Groendyke Transport, Inc., and does not extend to any other motor carrier.

2. Recurring Data Reporting Requirements:

• Groendyke must provide recurring yearly data submissions to include information on rear-impact crashes and incidents involving a CMV equipped with Groendyke's amber brake-activated pulsating lamps. The first submission is due March 31, 2025, and subsequent submissions are due every 12-months thereafter until the exemption expires or is rescinded.

• The yearly data submissions must be sent via email to FMCSA at MCPSV@dot.gov.

• If Groendyke lacks certain categories of information, alternative information may be discussed with FMCSA and submitted if approved.

3. Data Reporting Requirements for Rear-impact Crashes and Incidents:

• At the end of each 12-month period, Groendyke must submit a report detailing crash rates, vehicle miles traveled, number and type of CMVs operating under the exemption, crash or incident information including the date of each crash or incident, along with the time, location, and a brief description of the event.

• Groendyke must provide any available information indicating malfunction of, or confusion caused by the use of, Groendyke's amber brake-activated pulsating lamps.

4. Meetings:

• Groendyke must meet with FMCSA upon request to answer questions regarding data and information provided under the exemption.

D. Preemption

In accordance with 49 U.S.C. 31315(d), as implemented by 49 CFR 381.600, during the period this exemption is in effect, no State shall enforce any law or regulation that conflicts with or is inconsistent with this exemption with respect to a person operating under the exemption. States may, but are not required to, adopt the same exemption with respect to operations in intrastate commerce.

E. Termination

FMCSA does not believe that drivers or CMVs covered by the exemption will experience any deterioration of their safety record. The exemption will be rescinded if: (1) Groendyke or its drivers or CMVs fail to comply with the terms and conditions of the exemption; (2) the exemption has resulted in a lower level of safety than was maintained before it was granted; or (3) continuation of the exemption would not be consistent with the goals and objectives of 49 U.S.C. 31136(e) and 31315(b).

Vincent G. White,
Deputy Administrator.

[FR Doc. 2024-27091 Filed 11-19-24; 8:45 am]

BILLING CODE 4910-EX-P